DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Western Alaska Community Development Quota (CDQ) Program.

OMB Control Number: 0648-0269.

Form Number(s): NA.

Type of Request: Regular submission (extension of a current information collection).

Number of Respondents: 7.

Average Hours per Response: Application for approval of use of non-Community Development Quota (CDQ) harvest regulations, 5 hours; transfer of prohibited species quota (PSQ), non-Chinook, 30 minutes.

Burden Hours: 11.

Needs and Uses: This request is for extension of a current information collection.

The Western Alaska CDQ Program is an economic development program implemented under the Magnuson Stevens Fishery Conservation and Management Act, the Fishery Management Plan for the Groundfish Fishery of the Bering Sea and Aleutian Islands, and regulations at 50 CFR part 679. The purpose of the program is to provide western Alaska communities the opportunity to participate and invest in Bering Sea and Aleutian Islands Management Area fisheries, to support economic development in western Alaska, to alleviate poverty and provide economic and social benefits for residents of western Alaska, and to achieve sustainable and diversified local economies in western Alaska.

CDQ and PSQ allocations are made to CDQ groups. However, in many cases the CDQ groups contract with existing fishing vessels and processors to harvest CDQ on their behalf. The CDQ group is responsible to monitor the catch of CDQ and PSQ by all vessels fishing under its Community Development Plan and to take the necessary action to prevent overages. National Marine Fisheries Service monitors the reported catch to assure that quotas are not being exceeded. Information is collected only through quota transfers in this collection.

Affected Public: Business or other for-profit organizations.

Frequency: On occasion.

Respondent's Obligation: Required to obtain or retain benefits.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: December 13, 2013.
Gwellnar Banks,
Management Analyst, Office of the Chief Information Officer.

[FR Doc. 2013-30176 Filed 12-18-13; 8:45 am]

BILLING CODE 3510-22-P